DEPARTMENT OF COMMERCE

National Oceanic and Atmospheric Administration

RIN 0648-XC909

Pacific Fishery Management Council (Pacific Council); Public Meeting

AGENCY: National Marine Fisheries Service (NMFS), National Oceanic and Atmospheric Administration (NOAA), Commerce.

ACTION: Notice of public meetings.

SUMMARY: The Pacific Council will host a webinar meeting of the Council Coordination Committee (CCC) consisting of the eight Regional Fishery Management Council (RFMC) chairs, vice chairs, and executive directors and its subcommittees. The intent of this meeting is to discuss issues of relevance to the CCC, including: Magnuson-Stevens Act reauthorization priorities, CCC terms of reference, Department of Commerce Office of the Inspector General report action plan, decisions and follow-up activities, and, as time allows, other topics of concern to the RFMCs.

DATES: The meeting will be held October 23-24, 2013. The meeting will begin at 11 a.m. Pacific Daylight Time (PDT) on Wednesday, October 23, 2013, and recess at 2 p.m. PDT, or when business is complete, reconvene at 11 a.m. PDT on Thursday, October 24, 2013, and recess at 2 p.m. PDT, or when business is complete, with breaks as determined by the Pacific Council Chair.

ADDRESSES: The meeting will be held by web-based media, with attendance information posted on the Pacific Council Web site.

Council address: Pacific Fishery Management Council, 7700 NE Ambassador Place, Suite 101, Portland, OR 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The Magnuson-Stevens Fishery Conservation and Management Reauthorization Act (MSA) of 2006 established the CCC by amending Section 302 (16 U.S.C. 1852) of the MSA. The CCC consists of the chairs, vice chairs, and executive directors of each of the eight RFMCs authorized by the MSA or other Council members or staff. The meeting is open to the public who wish to participate by webinar; instructions for participation will be posted on the Pacific Council's Web site (found at http://www.pcouncil.org/). Written public comments submitted prior to 8 a.m. PDT October 21 to the Pacific Council (see ADDRESSES) will be posted, along with other materials relevant to discussions at the CCC meeting, at http://www.pcouncil.org/council-operations/council-meetings/ccc-oct-2013/.

Agenda

Wednesday, October 23, 2013

11 a.m. PDT

Call to Order

Open Public Comment

MSA Reauthorization Priorities

2 p.m. PDT

Recess for the day

Thursday, October 24, 2013

11 a.m. PDT

MSA Reauthorization Priorities

CCC Terms of Reference

Office of Inspector General Action Plan

Allocation Review Process

Discussion of Follow-up Activities

Other Business if Time Allows, such as:

Allocation Review Processes

Budget Updates

ESA Transparency

Stock Assessment Prioritization Plan

2 p.m. PDT

Adjourn

The timing and order in which agenda items are addressed may change as required to effectively address the issues. The CCC may meet as late as necessary to complete scheduled business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Mr. Kris Kleinschmidt at (503) 820-2280 at least 5 days prior to the meeting date.

Dated: September 30, 2013.
Tracey L. Thompson,
Acting Deputy Director, Office of Sustainable Fisheries, National Marine Fisheries Service.

[FR Doc. 2013-24286 Filed 10-3-13; 8:45 am]

BILLING CODE 3510-22-P